DEPARTMENT OF JUSTICE

Drug Enforcement Administration

Manufacturer of Controlled Substances; Notice of Registration

By Notice dated March 28, 2000, and published in the Federal Register on April 4, 2000, (65 FR 17675), Pressure Chemical Company, 3419 Spellman Street, Pittsburgh, Pennsylvania 15201, made application by renewal to the Drug Enforcement Administration (DEA) to be registered as a bulk manufacturer of 2, 5-dimethoxyamphetamine (7396), a basic class of controlled substance listed in Schedule I.

The firm plans to bulk manufacture 2, 5-dimethoxyamphetamine for distribution to its customers.

No comment or objectives have been received. DEA has considered the factors in Title 21, United States Code, Section 823(a) and determined that the registration of Pressure Chemical Company to manufacture 2, 5-dimethoxyamphetamine is consistent with the public interest at this time. DEA has investigated Pressure Chemical Company to ensure that the company's continued registration is consistent with the public interest. These investigations included inspection and testing of the company's physical security systems, verification of the company's compliance with state and local laws, and a review of the company's background and history. Therefore, pursuant to 21 U.S.C. 823 and 28 CFR 0.100 and 0.104, the Deputy Assistant Administrator, Office of Diversion Control, hereby orders that the application submitted by the above firm for registration as a bulk manufacturer of the basic class of controlled substance listed above is granted.

Dated: June 29, 2000.
John H. King,
Deputy Assistant Administrator, Office of Diversion Control, Drug Enforcement Administration.

[FR Doc. 00-17919 Filed 7-13-00; 8:45 am]

BILLING CODE 4410-09-M